DEPARTMENT OF COMMERCE

Bureau of Industry and Security

[Docket No. 070619210-7211-01]

Request for Public Comments on a Systematic Review of the Commerce Control List

AGENCY: Bureau of Industry and Security, Commerce.

ACTION: Notice of inquiry.

SUMMARY: The Bureau of Industry and Security (BIS) is soliciting comments from the public regarding the Commerce Control List (CCL) in the Export Administration Regulations (EAR). BIS has already requested that its Technical Advisory Committees (TACs) review the CCL and recommend potential changes to BIS. BIS believes that it would also be beneficial to allow interested members of the public to submit comments regarding the CCL.

DATES: Comments must be received by September 17, 2007.

ADDRESSES: Written comments on this notice of inquiry may be sent by e-mail to publiccomments@bis.doc.gov. Include “Notice of Inquiry—CCL” in the subject line of the message. Comments may also be submitted by mail or hand delivery to Timothy Mooney, Office of Exporter Services, Regulatory Policy Division, Bureau of Industry and Security, Department of Commerce, 14th St. & Pennsylvania Avenue, NW., Room 2705, Washington, DC 20230, ATTN: Notice of Inquiry—CCL; or by fax to (202) 482-3355.

FOR FURTHER INFORMATION CONTACT: Timothy Mooney, Regulatory Policy Division, Bureau of Industry and Security, telephone: (202) 482-2440, e-mail: tmooney@bis.doc.gov.

SUPPLEMENTARY INFORMATION:

Background

The Commerce Control List (CCL) is found in Supplement No. 1 to part 774 of the EAR. The CCL is a list of items subject to the Export Administration Regulations (EAR). Items subject to the EAR are under the export control jurisdiction of the Bureau of Industry and Security (BIS), U.S. Department of Commerce. The CCL covers items (i.e., commodities, software, and technology) enumerated in Export Control Classification Numbers (ECCNs). There are 10 general categories (0-9) of ECCNs and each category has five parts (Systems, Equipment and Components; Test, Inspection and Production Equipment; Materials; Software; and Technology). The CCL covers a broad range of commodities, software and technologies and plays an important role in the U.S. system for controlling the export of dual-use items. Items not listed on the CCL, but subject to the EAR, are designated as EAR99.

Changes are made regularly to the CCL to reflect revisions in the control lists of the multilateral export control regimes (Wassenaar Arrangement; Missile Technology Control Regime; Australia Group; Nuclear Suppliers' Group). To conduct a more systematic review of the CCL, BIS has requested that its TACs review the CCL and recommend potential changes to BIS.

In addition to seeking recommendations from its TACs, BIS is also inviting the interested public to submit comments regarding:

(1) The overall structure of the CCL, including suggestions for how the structure of the CCL may be changed to better advance U.S. national security, foreign policy, and economic interests;

(2) Types of items that should be listed on the CCL and the appropriate levels of controls to be placed on those items, taking into account technology levels, markets, and foreign availability;

(3) Any updates to the CCL item descriptions that would enable the descriptions to better reflect the intent of the multinational controls and to eliminate any overly broad descriptions that inadvertently capture non-critical items that are not controlled by other countries; and

(4) Coordination and harmonization of controls on items covered by the multilateral regimes, such as the Wassenaar Arrangement.

Comments should be submitted to BIS as described in the ADDRESSES section of this notice by September 17, 2007.

Dated: July 11, 2007.
Matthew S. Borman,
Deputy Assistant Secretary for Export Administration.

[FR Doc. E7-13843 Filed 7-16-07; 8:45 am]

BILLING CODE 3510-33-P